DEPARTMENT OF HOMELAND SECURITY

U.S. Customs and Border Protection

19 CFR Part 4

[CBP Dec. 22-19]

RIN 1651-AB41

Vessel Repair Duties for Vessels Entering U.S. Ports; Correction

AGENCY: U.S. Customs and Border Protection; DHS.

ACTION: Final rule; correcting amendments.

SUMMARY: On July 29, 2022, U.S. Customs and Border Protection (CBP) published a Final Rule in the Federal Register that streamlines the vessel repair entry process by extending the timeframe for vessel operators to provide completed vessel repair entries and to apply for relief from assessment of duties associated with vessel repairs occurring abroad. The rule now extends the timeframe from 90 days to 150 days and eliminates the need for filing extension requests. That document inadvertently deleted the list of evidence required in Applications for Relief from the assessment of vessel repair duties. CBP is correcting that error by restoring the list of required documentation in the regulations.

DATES: Effective August 19, 2022.

FOR FURTHER INFORMATION CONTACT: W. Richmond Beevers, Chief, Cargo Security, Carriers, and Restricted Merchandise Branch, Regulations and Rulings, U.S. Customs and Border Protection, at 202-325-0084 or wiley.r.beevers@cbp.dhs.gov.

SUPPLEMENTARY INFORMATION: On July 29, 2022, U.S. Customs and Border Protection (CBP) published a Final Rule in the Federal Register (87 FR 45642) that streamlines the vessel repair entry process by extending the timeframe for vessel operators to provide completed vessel repair entries and to apply for relief from assessment of duties associated with vessel repairs occurring abroad. The rule now extends the timeframe from 90 days to 150 days and eliminates the need for filing extension requests. The Final Rule inadvertently deleted the list of evidence required in Applications for Relief from the assessment of vessel repair duties in the subparagraphs to 19 CFR 4.14(i)(1). CBP is correcting that error to restore subparagraphs (i) through (vi) in 19 CFR 4.14(i)(1).

List of Subjects in 19 CFR Part 4

Exports, Freight, Harbors, Maritime carriers, Oil pollution, Reporting and recordkeeping requirements, Vessels.

Amendments to the Regulations

For the reasons set forth in the preamble, 19 CFR part 4 is amended as follows:

PART 4—VESSELS IN FOREIGN AND DOMESTIC TRADES

1. The general authority citation for part 4 and the specific authority citation for § 4.14 continues to read as follows:

Authority: 5 U.S.C. 301; 19 U.S.C. 66, 1415, 1431, 1433, 1434, 1624, 2071 note; 46 U.S.C. 501, 60105.

* * * * *

Section 4.14 also issued under 19 U.S.C. 1466, 1498; 31 U.S.C. 9701.

* * * * *

2. In § 4.14, amend paragraph (i)(1) by adding paragraphs (i)(1)(i) through (i)(1)(vi) to read as follows:

§ 4.14 Equipment purchases for, and repairs to, American vessels

* * * * *

(i) * * *

(1) * * *

(i) Itemized bills, receipts, and invoices for items shown in paragraph (e) of this section. The cost of items for which a request for relief is made must be segregated from the cost of the other items listed in the vessel repair entry;

(ii) Photocopies of relevant parts of vessel logs, as well as of any classification society reports which detail damage and remedies;

(iii) A certification by the senior officer with personal knowledge of all relevant circumstances relating to casualty damage (time, place, cause, and nature of damage);

(iv) A certification by the senior officer with personal knowledge of all relevant circumstances relating to foreign repair expenditures (time, place, and nature of purchases and work performed);

(v) A certification by the master that casualty-related expenditures were necessary to ensure the safety and seaworthiness of the vessel in reaching its United States port of destination; and

(vi) Any permits or other documents filed with or issued by any United States Government agency other than CBP regarding the operation of the vessel that are relevant to the request for relief.

* * * * *

Alice A. Kipel,
Executive Director, Regulations and Rulings, Office of Trade, U.S. Customs and Border Protection.

[FR Doc. 2022-17758 Filed 8-18-22; 8:45 am]

BILLING CODE 9111-14-P